DEPARTMENT OF THE TREASURY

Alcohol and Tobacco Tax and Trade Bureau

Privacy Act of 1974, as Amended

AGENCY: Alcohol and Tobacco Tax and Trade Bureau, Treasury.

ACTION: Notice of system of records.

SUMMARY: The Privacy Act of 1974, as amended, 5 U.S.C. 552a, requires all Federal agencies to publish their inventory of Privacy Act systems of records. In accordance with this requirement, and following a review of its records, the Alcohol and Tobacco Tax and Trade Bureau (TTB) is publishing its Privacy Act system of records.

DATES: Comments must be received no later than October 2, 2008. This new system of records will be effective October 14, 2008, unless TTB receives comments which would result in a contrary determination.

FOR FURTHER INFORMATION CONTACT: Gerry Isenberg, Assistant Director, Regulations and Rulings Division, Alcohol and Tobacco Tax and Trade Bureau, 1310 G Street, NW., Washington, DC 20005; phone 202-927-8210.

ADDRESSES: You may submit comments on this notice by one of the following two methods: Federal e-Rulemaking Portal: To submit a comment on this notice using the online Federal e-rulemaking portal, visit http://www.regulations.gov and select “Alcohol and Tobacco Tax and Trade Bureau” from the agency drop-down menu and click “Submit.” In the resulting docket list, open the docket containing this notice, click on the “Add Comments” icon for this notice, and complete the resulting comment form. You may attach supplemental files to your comment. A direct link to the appropriate docket is also available on the TTB Web site at http://www.ttb.gov/regulations_laws/all_rulemaking.shtml. More complete information on using Regulations.gov, including instructions for accessing open and closed dockets and for submitting comments, is available through the site's “User Tips” link.

Mail: You may send written comments to the Director, Regulations and Rulings Division, Alcohol and Tobacco Tax and Trade Bureau, P.O. Box 14412, Washington, DC 20044-4412.

Please submit your comments by the closing date shown above in this notice. Your comments must include this notice number and your name and mailing address. TTB will not accept anonymous comments. Your comments must be in English, legible, and written in language acceptable for public disclosure. TTB does not acknowledge receipt of comments, and TTB considers all comments as originals.

If you are commenting on behalf of an association, business, or other entity, your comment must include the entity's name as well as your name and position title. If you comment via http://www.regulations.gov, please enter the entity's name in the “Organization” blank of the comment form. If you comment via mail, please submit your entity's comment on letterhead.

Confidentiality: All submitted comments and attachments are part of the public record and subject to disclosure. Do not enclose any material in your comments that you consider to be confidential or inappropriate for public disclosure.

Public Disclosure: On the Federal e-rulemaking portal, TTB will post, and you may view, copies of this notice and any electronic or mailed comments TTB receives about this proposal. To view a posted document or comment, go to http://www.regulations.gov and select “Alcohol and Tobacco Tax and Trade Bureau” from the agency drop-down menu and click “Submit.” In the resulting docket list, click the appropriate docket number, then click the “View” icon for any document or comment posted under that docket number. A direct link to the docket containing this notice is also available on the TTB Web site at http://www.ttb.gov/regulations_laws/all_rulemaking.shtml. All submitted and posted comments will display the commenter's name, organization (if any), city, and state, and, in the case of mailed comments, all address information, including e-mail addresses. TTB may omit voluminous attachments or material that it considers unsuitable for posting.

You also may view copies of this notice and any electronic or mailed comments TTB receives about this proposal by appointment at the TTB Information Resource Center, 1310 G Street, NW., Washington, DC 20220. You may also obtain copies at 20 cents per 8.5-× 11-inch page. Contact TTB's information specialist at the above address or by telephone at 202-927-2400 to schedule an appointment or to request copies of comments or other materials.

SUPPLEMENTARY INFORMATION: Effective January 24, 2003, the Homeland Security Act of 2002 divided the Bureau of Alcohol, Tobacco and Firearms (ATF) into two new agencies, the Alcohol and Tobacco Tax and Trade Bureau (TTB) in the Department of the Treasury and the Bureau of Alcohol, Tobacco, Firearms and Explosives (ATF) in the Department of Justice. ATF oversees firearms, explosives, and arson programs and administers laws pertaining to alcohol and tobacco smuggling and diversion. TTB is responsible for administering Chapters 51 (relating to distilled spirits, wine, and beer) and 52 (relating to tobacco products and cigarette papers and tubes) of title 26 of the United States Code (U.S.C.), which contains the Internal Revenue Code of 1986, as amended. TTB also administers sections 4181 and 4182 (relating to the excise tax on firearms and ammunition) of the Internal Revenue Code of 1986, and title 27 of the U.S.C. (relating to alcohol).

Section 1512 of the Homeland Security Act of 2002 authorized TTB to continue its operations under completed administrative actions taken by ATF until such actions are amended, modified, superseded, terminated, set aside, or revoked in accordance with law. As of January 24, 2003, the following Privacy Act systems of records notices were in effect for ATF records:

ATF .001-Administrative Record System;

ATF .002-Correspondence Record System;

ATF .003-Criminal Investigation Report System;

ATF .007-Personnel Record System;

ATF .008-Regulatory Enforcement Record System; and

ATF .009-Technical and Scientific Services Record System.

Pursuant to the Privacy Act of 1974 (5 U.S.C. 552a) and Office of Management and Budget (OMB) Circular No. A-130, TTB has completed a review of its current records to determine what records are Privacy Act systems of records. TTB reviewed the established Government-wide Privacy Act system of records notices published by such agencies as the Equal Employment Opportunity Commission, the General Services Administration, the Merit Systems Protection Board, the Office of Government Ethics, and the Office of Personnel Management, and Treasury-wide systems of records notices.

As a result of this review, TTB has determined that the only Privacy Act system of records it maintains which is not covered by a Government-wide or Treasury-wide system of records notice is the “Treasury/ATF .008-Regulatory Enforcement Record System.” This system of records will be maintained by TTB under the new title “Treasury/TTB .001-Regulatory Enforcement Record System.” TTB also determined that the following systems of records should be removed from the Department's Privacy Act systems of records inventory:

ATF .001-Administrative Record System;

ATF .002-Correspondence Record System;

ATF .003-Criminal Investigation Report System;

ATF .007-Personnel Record System; and

ATF .009-Technical and Scientific Services Record System.

An interim final rule amending 31 CFR 1.36 to reflect the removal of the ATF .003, ATF .007, and ATF .009 from the list of exempt systems, and the redesignation of ATF .008-Regulatory Enforcement Record System, will be published separately in the Federal Register. Note that while ATF. 001 and ATF .002 are part of the current Department of the Treasury systems of records inventory and are being deleted from that inventory pursuant to this notice, these two systems are not part of the list of exempt systems of records in 31 CFR 1.36. Therefore, these two systems are not included in the interim rule amendment of § 1.36.

The report of the revised system of records, as required by 5 U.S.C. 552a(r), has been submitted to the Committee on Government Reform of the House of Representatives, the Committee on Homeland Security and Governmental Affairs of the Senate, and the Office of Management and Budget, pursuant to Appendix I to OMB Circular A-130, “Federal Agency Responsibilities for Maintaining Records About Individuals,” dated November 30, 2000.

The proposed revisions to the system of records entitled “Treasury/TTB .001-Regulatory Enforcement Record System” are published in their entirety below.

Dated: July 23, 2008.
Peter B. McCarthy,
Assistant Secretary for Management and Chief Financial Officer.

TREASURY/TTB .001

SYSTEM NAME:

Regulatory Enforcement Record System.

SYSTEM LOCATION:

Alcohol and Tobacco Tax and Trade Bureau (TTB), 1310 G Street, NW., Washington, DC 20005. Components of this system of records are also geographically dispersed throughout TTB's field offices. A list of TTB's field offices is available on the TTB Web site at http://www.ttb.gov.

CATEGORIES OF INDIVIDUALS COVERED BY THE SYSTEM:

(1) Individuals who file tax returns or submit return information to TTB regarding special occupational tax and excise taxes on alcohol, tobacco, and firearms and ammunition; and

(2) Individuals who have been issued permits or licenses, have filed applications with TTB, or have registered with TTB. They include (a) Alcohol and tobacco licensees and (b) Claimants for refund, abatement, credit, allowance, or drawback of excise or special occupational taxes.

CATEGORIES OF RECORDS IN THE SYSTEM:

Records containing investigative material compiled for TTB's responsibilities to collect the revenue and protect the public which may consist of the following: (1) Abstracts of offers in compromise; (2) Administrative law judge decisions; (3) Assessment records including notices of proposed assessments, notices of shortages or losses, copies of notices from IRS to assess taxes, and recommendations for assessments; (4) Claim records including claims, letters of claim rejection, sample reports, supporting data, and vouchers and schedules of payment; (5) Correspondence concerning records in this system and related matters; (6) Financial statements; (7) Inspection and investigation reports; (8) Demands for payment of excise tax liabilities; (9) Letters of reprimand; (10) Lists of permittees and licensees; (11) Lists of officers, directors, and principal stockholders; (12) Mailing lists and addressograph plates; (13) Notices of delinquent reports; (14) Offers in compromise; (15) Operational records, such as operating and inventory reports, and transaction records and reports; (16) Orders of revocation, suspension, or annulment of permits or licenses; (17) District and Chief Counsel opinions and memoranda; (18) Reports of violations; (19) Permits and permit histories; (20) Qualifying records including access authorizations, advertisement records, applications, business histories, criminal records, educational histories, employment histories, financial data, formula approvals, licenses, notices, permits, personal references, registrations, sample reports, special permissions and authorizations, and statements of process; (21) Show cause orders; and (22) Tax records including control cards relating to periodic payment and prepayment of taxes, tax returns, and notices of tax discrepancy or adjustment.

AUTHORITY FOR MAINTENANCE OF THE SYSTEM:

5 U.S.C. 301; 26 U.S.C. 5001, 5006(a), 5008, 5041, 5042(a)(2) and (3), 5044, 5051, 5055, 5056, 5061, 5062, 5064, 5101, 5132, 5172, 5179(a), 5181, 5271(b)(1), 5275, 5301(a) and (b), 5312, 5356, 5401, 5417, 5502, 5511(3), 5705, 5712, 6001, 6011(a), 6201, 6423, 7011, and 7122; 27 U.S.C. 204 and 207; and Homeland Security Act of 2002.

PURPOSE(S):

The purpose of this system is to determine suitability, eligibility, or qualifications of individuals who are engaged or propose to engage in activities regulated by TTB; achieve compliance with laws under TTB's jurisdiction; assure full collection of revenue due from legal industries; eliminate commercial bribery, consumer deception, and other improper trade practices in the distilled spirits, beer, and wine industries; and interact with Federal, State, and local governmental agencies in the resolution of problems relating to revenue protection, public health, and other areas of joint jurisdictional concern.

ROUTINE USES OF RECORDS MAINTAINED IN THE SYSTEM, INCLUDING CATEGORIES OF USES AND THE PURPOSES OF SUCH USES:

Routine uses of records within this system pursuant to which a record may be disclosed are to:

(1) Third parties when such disclosure is required by statute or Executive Order;

(2) Third parties to the extent necessary to collect or verify information pertinent to the Bureau's decision to grant, deny, or revoke a license or permit; to initiate or complete an investigation of violations or alleged violations of laws and regulations administered by the Bureau;

(3) Appropriate Federal, State, local, or foreign agencies for the purpose of enforcing administrative, civil, or criminal laws; hiring or retention of an employee; issuance of a security clearance, license, contract, grant, or other benefit by the requesting agency, to the extent that the information is relevant and necessary to the requesting agency's decision on the matter;

(4) A court, magistrate, or administrative tribunal in the course of presenting evidence, including disclosures to opposing counsel or witnesses in the course of or in preparation for civil discovery, litigation, or settlement negotiations, in response to a subpoena where relevant or potentially relevant to a proceeding, or in connection with criminal law proceedings;

(5) INTERPOL and similar national and international intelligence gathering organizations for the purpose of identifying international and national criminals involved in consumer fraud, revenue evasion, crimes, or persons involved in terrorist activities;

(6) Foreign governments in accordance with formal or informal international agreements;

(7) Appropriate Federal, State, local, or foreign agencies responsible for investigating or prosecuting the violations of, or for enforcing or implementing, a statute, rule, regulation, order, or license, where the disclosing agency becomes aware of an indication of a violation or potential violation of criminal law or regulation;

(8) A congressional office in response to an inquiry made at the request of the individual to whom the record pertains;

(9) The news media to provide information in accordance with guidelines contained in 28 CFR 50.2 which relate to an agency's functions relating to civil and criminal proceedings;

(10) Third parties for a purpose consistent with any permissible disclosure of returns or return information under the Internal Revenue Code of 1986, as amended; and

(11) Appropriate agencies, entities, and persons when: (a) The Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

(12) Disclose information to a contractor for the purpose of processing administrative records and/or compiling, organizing, analyzing, programming, or otherwise refining records subject to the same limitations applicable to U.S. Department of the Treasury officers and employees under the Privacy Act;

(13) The Department of Justice when seeking legal advice or when (a) the Department of the Treasury or (b) the disclosing agency, or (c) any employee of the disclosing agency in his or her official capacity, or (d) any employee of the agency in his or her individual capacity where the Department of Justice has agreed to represent the employee, or (e) the United States, where the disclosing agency determines that litigation is likely to affect the disclosing agency, is a party to litigation or has an interest in such litigation, and the use of such records by the Department of Justice is deemed by the agency to be relevant and necessary to the litigation; and

(14) Representatives of the National Archives and Records Administration (NARA) who are conducting records management inspections under authority of 44 U.S.C. 2904 and 2906.

POLICIES AND PRACTICES FOR STORING, RETRIEVING, ACCESSING, RETAINING, AND DISPOSING OF RECORDS IN THE SYSTEM:

STORAGE:

Records are stored in file folders in filing cabinets and in electronic media.

RETRIEVABILITY:

Records are retrievable by name, by permit or license number, by document locator number, or by employer identification number (EIN).

SAFEGUARDS:

Direct access is restricted to personnel in the Department of the Treasury in the performance of their duties. Records are stored in file cabinets in rooms locked during nonduty hours. The records stored in electronic media are password protected and encrypted. Disclosures are made to routine users on a “need to know” basis and upon verification of the substance and propriety of the request.

RETENTION AND DISPOSAL:

The Alcohol and Tobacco Tax and Trade Bureau maintains records according to the ATF Order 1345.1 (10/29/1991; updated 4/5/2002) that the National Archives and Records Administration (NARA) approved. We are in the process of requesting approval for a new TTB Records Control Schedule. Records not currently covered by our approved record retention schedule will not be disposed of until TTB receives approval from NARA. Some of the records are retained in accordance with General Records Schedules numbers 1 through 27 issued by NARA.

SYSTEM MANAGER(S) AND ADDRESS:

Director, National Revenue Center, Alcohol and Tobacco Tax and Trade Bureau, 550 Main Street, Suite 8002, Cincinnati, OH 45202.

NOTIFICATION PROCEDURE:

This system of records has been determined to be exempt from compliance with the notification provisions of 5 U.S.C. 552a(e)(4)(G).

RECORD ACCESS PROCEDURES:

This system of records has been determined to be exempt from compliance with the access provisions of 5 U.S.C. 552a(e)(4)(H).

CONTESTING RECORD PROCEDURES:

This system of records has been determined to be exempt from compliance with the provisions of 5 U.S.C. 552a(e)(4)(H) allowing an individual to contest the contents of records.

RECORD SOURCE CATEGORIES:

This system of records has been determined to be exempt from compliance with the provisions of 5 U.S.C. 552a(e)(4)(I) requiring the record source categories be reported.

EXEMPTIONS CLAIMED FOR THE SYSTEM:

This system has been designated as exempt from the following provisions of the Privacy Act pursuant to 5 U.S.C. 552a(k)(2): 5 U.S.C. 552a(c)(3), (d), (e)(1), (e)(4)(G), (e)(4)(H), (e)(4)(I), and (f). See 31 CFR 1.36.

[FR Doc. E8-20202 Filed 8-29-08; 8:45 am]

BILLING CODE 4810-31-P